DEPARTMENT OF ENERGY

Federal Energy Regulatory Commission

[Project No. 2169-104]

Alcoa Power Generating Inc.; Brookfield Smoky Mountain Hydropower LLC; Notice of Application for Transfer of License, and Soliciting Comments and Motions To Intervene

On July 31, 2012, Alcoa Power Generating Inc. (transferor) and Brookfield Smoky Mountain Hydropower LLC (transferee) filed an application for the transfer of license for the Tapoco Hydroelectric Project (FERC No. 2169), located on the Little Tennessee and Cheoah Rivers in Graham and Swain counties in North Carolina, and Blount and Monroe counties in Tennessee.

Applicants seek Commission approval to transfer the license for the Tapoco Hydroelectric Project from the transferor to the transferee.

Applicants' Contact: Transferor: Alcoa Inc., 390 Park Avenue, New York, New York 10022, Attn: Mr. Marc A. Pereira, Director, Corporate Development and Mr. David R. Poe, Bracewell & Giuliani LLP, 2000 K Street NW., Suite 500, Washington, DC 20006, (202) 828-5800, email david.peo@bgllp.com.

Transferee: BAIF U.S. Renewable Power Holdings LLC, 200 Donald Lynch Blvd., Suite 300, Marlboro, MA 01752, Attn: Mr. David Bono, Vice President, Law and General Counsel and Mr. Patrick E. Groomes, Fulbright & Jaworski, L.L.P., 801 Pennsylvania Ave. NW., Washington, DC, (202) 662-4556, email pgroomes@fulbright.com.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-2169) in the docket number field to access the document. For assistance, call toll-free 1-866-208-3372.

Dated: August 3, 2012.
Kimberly D. Bose,
Secretary.

[FR Doc. 2012-19514 Filed 8-8-12; 8:45 am]

BILLING CODE 6717-01-P